DEPARTMENT OF TRANSPORTATION

National Highway Traffic Safety Administration

[Docket No. NHTSA-2010-0160; Notice 1]

Volvo Trucks North America and Mack Trucks, Inc., Receipt of Petition for Decision of Inconsequential Noncompliance

North American Trucks on behalf of Volvo Trucks North America (VTN) and Mack Trucks, Inc. (MTI) ¹ has determined that certain 2008 through 2010 Volvo VHD model, 2008 and 2009 Volvo VHL model, 2008 and 2009 Volvo VNL model, 2008 Volvo VT model, and 2008 through 2010 Mack CHU, CXU and GU model trucks that were built with certain Meritor WABCO ABS Modulator valves failed to meet the requirements of paragraph S5.3.4.1(a) of Federal Motor Vehicle Safety Standard (FMVSS) No. 121, Air Brake Systems. VTN and MTI filed appropriate reports pursuant to 49 CFR Part 573, Defect and Noncompliance Responsibility and Reports; the original submission is dated April 10, 2010, and a corrected version is dated May 28, 2010.

¹ Volvo Trucks North America and Mack Trucks, Inc., are both United States corporations that import and manufacture motor vehicles.

Pursuant to 49 U.S.C. 30118(d) and 30120(h) (see implementing rule at 49 CFR Part 556), VTN and MTI have petitioned for an exemption from the notification and remedy requirements of 49 U.S.C. Chapter 301 on the basis that this noncompliance is inconsequential to motor vehicle safety.

This notice of receipt of the VTN and MTI petition is published under 49 U.S.C. 30118 and 30120 and does not represent any agency decision or other exercise of judgment concerning the merits of the petition.

VTN stated that the affected Volvo VNL, VNM, and VHD model trucks were manufactured from March 1, 2007 through December 11, 2009. A total of 1,916 affected Volvo trucks were manufactured of which 1,763 were sold in the U.S.

MTI stated that the affected Mack CHU, CXU and GU model trucks were manufactured from March 1, 2007, through December 11, 2009. A total 1,287 affected Mack trucks were manufactured of which 1,202 were sold in the U.S.

Only the trucks sold in the United States are the subject of their petition.

Paragraph S5.3.4.1(a) of FMVSS No. 121 requires:

S5.3.4.1(a) With an initial service brake chamber air pressure of 95 psi, the air pressure in each brake chamber shall, when measured from the first movement of the service brake control, fall to 5 psi in not more than 0.55 second in the case of trucks and buses; 1.00 second in the case of trailers, other than trailer converter dollies, designed to tow another vehicle equipped with air brakes; 1.10 seconds in the case of trailer converter dollies; and 1.20 seconds in the case of trailers other than trailers designed to tow another vehicle equipped with air brakes. A vehicle designated to tow another vehicle equipped with air brakes shall meet the above release time requirement with a 50-cubic-inch test reservoir connected to the control line output coupling. A trailer, including a trailer converter dolly, shall meet the above release time requirement with its control line input coupling connected to the test rig shown in Figure 1.

(b) For vehicles designed to tow another vehicle equipped with air brakes, the pressure in the 50-cubic-inch test reservoir referred to in S5.3.4.1(a) shall, when measured from the first movement of the service brake control, fall to 5 psi in not more than 0.75 seconds in the case of trucks and buses, 1.10 seconds in the case of trailer converter dollies, and 1.00 seconds in the case of trailers other than trailer converter dollies.

VTN and MTI state that the noncompliance is that the quick release service brake function may not activate properly during FMVSS No. 121 brake pressure release certification testing due to an internal component variation in certain Meritor WABCO ABS modulator valves installed on the subject vehicles. As a result, certain vehicles may not comply with the FMVSS No. 121 brake pressure release timing requirement as specified in S5.3.4.1(a). However, VTN and MTI indicate that they do not believe that this issue has any effect on the ABS performance of the brake system.

VTN and MTI also state that they have taken steps to correct the noncompliance in future production.

VTN and MTI rely on the test report submitted with the petition to support their contention that the described FMVSS No. 121 noncompliance is inconsequential to motor vehicle safety.

In summary, VTN and MTI believe that their petition, to exempt them from providing recall notification of noncompliance as required by 49 U.S.C. 30118 and remedying the recall noncompliance as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to: U.S. Department of Transportation, Docket Operations, M-30, West Building Ground Floor, Room W12-140, 1200 New Jersey Avenue, SE., Washington, DC 20590. The Docket Section is open on weekdays from 10 am to 5 pm except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: January 7, 2011.

Authority: 49 U.S.C. 30118, 30120: delegations of authority at CFR 1.50 and 501.8.

Issued on: December 2, 2010.
Claude H. Harris,
Acting Associate Administrator for Enforcement.

[FR Doc. 2010-30839 Filed 12-7-10; 8:45 am]

BILLING CODE 4910-59-P